DEPARTMENT OF AGRICULTURE

Economic Research Service

Notice of Intent To Request New Information Collection

AGENCY: Economic Research Service, USDA.

ACTION: Notice and request for comments.

SUMMARY: In accordance with the Paperwork Reduction Act of 1995 (44 U.S.C. Chapter 35), this notice announces the Economic Research Service's intention to request approval for a new information collection for a Pilot Survey on Food Acquisition among American Households.

DATES: Written comments must be received by June 6, 2016 to be assured of consideration.

ADDRESSES: Address all comments concerning this notice to John Kirlin, Food Assistance Branch, Food Economics Division, Economic Research Service, U.S. Department of Agriculture, 1400 Independence Ave. SW., Mailstop 1800, Washington, DC 20250-0002. Comments may also be submitted via email to JKIRLIN@ers.usda.gov.

FOR FURTHER INFORMATION CONTACT: John Kirlin, JKIRLIN@ers.usda.gov. Tel. 202-694-5398.

SUPPLEMENTARY INFORMATION: Title: National Food Study Pilot.

OMB Number: To be assigned by OMB.

Expiration Date: Three years from the date of approval.

Type of Request: New information collection.

Abstract: The National Food Study (NFS) pilot will be conducted over a four-month period from October 2016 through January 2017. The survey will collect nationally representative data from 500 households, including 150 households participating in the Supplemental Nutrition Assistance Program (SNAP, formerly the Food Stamp Program). Each eligible household will be asked to record their food acquisitions for each household member over a 7-day period.

The U.S. Department of Agriculture collected similar data in 2012-2013 with the National Household Food Acquisition and Purchase Survey (FoodAPS, OMB Control Number 0536-0068). Participating household members in that survey used food booklets and a hand-held scanner to record information about all food acquisitions during a 7-day period. There is evidence in the FoodAPS data of some drop-off in the frequency of reported food acquisitions toward the end of the 7-day reporting periods. FoodAPS was a nationally representative survey with over-sampling of households participating in the Supplemental Nutrition Assistance Program (SNAP) and non-SNAP households with low incomes.

The main objective of the NFS pilot is to test an alternative method of collecting data on the foods acquired by American households that leads to more complete and accurate information about patterns of food acquisitions. Other objectives are to explore the feasibility of expanding the population of interest to include households receiving benefits from the Special Supplemental Nutrition Program for Women, Infants, and Children (WIC) and to collect more complete and accurate information on income. Data will be collected from households in nine states.

The sample will be selected from an address-based sampling frame. A total of 2,154 households from 12 Primary Sampling Units (PSUs) in nine states will receive a letter requesting their participation in the study. The pilot will also test the effectiveness of using WIC and SNAP administrative data at identifying SNAP and WIC participants.

The NFS pilot data collection begins by screening households via an in-person interview to determine eligibility and identifying a primary respondent (person who does the majority of the grocery shopping and cooking for the household) within eligible households. Next, an in-person initial interview is completed with the primary respondent. Then, all members of the household age 11 years and older are asked to access a web-based system daily to report food or drinks obtained during their assigned data collection week. Upon completion of the week-long data collection, a final in-person interview is completed with the primary respondent. To determine measurement error, immediately after the final interview, a follow-up re-interview will be conducted with two household members about their last two reporting days and to probe for missing information.

Food obtained by household members includes food purchased or obtained for free and brought into the home as well as food purchased or acquired for free outside of the home. Information to be collected about each food event will include place name and type, location, date, total cost, and method(s) of payment. Food item information to be collected will include an item descriptor, quantity acquired, unit price, and use of coupons or store loyalty cards that reduce actual cost. Participants also will be asked to upload photos of receipts. Participants will receive reminder email messages or text messages throughout the week if they do not report acquisitions for a day. If needed, households will be provided electronic equipment for the duration of their data collection period to assist them in accessing the web instrument.

Recruited households will receive $50 upon completion of the initial interview. Households will accumulate a $3 per day credit for each eligible household member whose food purchase behavior (including affirmation of no acquisitions) is recorded in the web system for that day, and a bonus of $50 for households whose members record food acquisitions for all 7 days and that complete the final interview. Finally, $5 will be provided to the household if members complete the income questions online.

All data collection instruments will ask only the most pertinent information, and the web-based system will be as respondent- and user-friendly as possible. Responses are voluntary and confidential. The instruments and procedures will be pretested prior to the finalization.

Responses from the National Food Study pilot will be combined for statistical purposes and reported only in aggregate or statistical form. A final report summarizing the findings will include an evaluation on the accuracy of administrative data used to select WIC and SNAP households as well as an evaluation of the feasibility of the web-based data collection system. Because this is a pilot test of a new data collection mode, there are no plans to make the collected data available to the public. The data will be analyzed and used as the Agency makes plans for a full-scale data collection at a future date.

Authority: These data will be collected under the authority of 7 U.S.C. 2204(a). ERS will comply with OMB Implementation Guidance, “Implementation Guidance for Title V of the E-Government Act, Confidential Information Protection and Statistical Efficiency Act of 2002 (CIPSEA)”, 72 FR 33362, June 15, 2007. Respondent information will be protected under the CIPSEA and the 7 U.S.C. 2276.

Affected Public: Respondent groups identified include: SNAP households, WIC households, and non-SNAP and non-WIC households.

Estimated Number of Respondents: The number of respondents is 2,154 households, of which 580 are expected to include SNAP participants. This includes: (i) Advance Letter: 2,154 households; (ii) Screener: 1,551 households (assumes a10% vacancy rate for SNAP households, a 15% vacancy rate for non-SNAP households, and a 72% response rate); (iii) Initial Interview: 593 responding households and 958 non-responding or non-eligible households composed of 540 households screened out due to unfamiliarity with smartphone or internet technology (assumes 45% of SNAP and 40% of non-SNAP households), 248 households screened out due to high income (assumes 21% of remaining non-SNAP households), and 170 households declining to participate in the study (assumes completion rates of 85% for eligible SNAP households and 75% for eligible non-SNAP households); (iv) Final Interview: 534 households (assumes a 90% response rate); and (v) Respondent Feedback Form: 507 households (assumes a 95% response rate). Data collection at the individual level contributes to household-level burden estimates, and the number of individual respondents is the number of households completing the Initial Interview (593) times estimated average household size (2.4), or 1424 individuals. The number of individual respondents is: (vi) Training: 1424 respondents (assumes an average of 2.4 individuals per household); It is assumed that 10% of households decide not to continue with the survey after the training, leaving 534 households and 1282 individuals. (vii) Income Worksheet: 999 respondents (assumes an 85% response rate for SNAP households and a 75% response rate for non-SNAP households); (viii) Food Reporting System and Meals and Snack Form: 1026 respondents (assumes an 80% response rate); and (ix) Re-interview: 961 respondents (assumes a 90% response rate, 2 persons per household).

Estimated Number of Responses per Respondent: All respondents 11 years and older who access the web once daily, will respond seven times. Respondents who complete the screener, initial, and final interviews will respond an additional three times. Respondents completing the re-interview will provide one additional response.

Estimated Time per Response: Reading the advance letter and completing the screener, initial, final, and feedback instruments will average 1.33 hours per household (or primary respondent). Individuals (including the primary respondent) who access the web to receive training, provide information on food acquisitions, income, and meals/snacks, and complete the re-interview will average 1.97 hours per respondent.

Estimated Total Burden on Respondents: 6,394 hours. See table for details.

Reporting Burden
Instrument | Sample size | Freq | Responses: Resp. count | Responses: Freq × count | Responses: Min./Resp. | Responses: Burden hours | Non-response/Not eligible: Non-resp. count | Non-response/Not eligible: Freq × count | Non-response/Not eligible: Min./Resp. | Non-response/Not eligible: Burden hours | Total burden hours
Advance letters | 2154 | 1 | 2154 | 2154 | 3 | 108 | 0 | 0 | 0 | 0 | 108
Household-level Data Collection:
Household Screener | 2154 | 1 | 1551 | 1551 | 12 | 310 | 603 | 603 | 5 | 50 | 360
Initial Household Interview | 1551 | 1 | 593 | 593 | 30 | 297 | 958 | 958 | 1.8 | 29 | 326
Final Household Interview | 593 | 1 | 534 | 534 | 30 | 267 | 59 | 59 | 3 | 3 | 270
Respondent Feedback Form | 534 | 1 | 507 | 507 | 5 | 42 | 27 | 27 | 3 | 1 | 44
Total Responding Burden—HH | 2154 |  | 2154 |  |  | 1024 |  |  |  | 83 | 1107
Individual-level Data Collection:
Training | 1424 | 1 | 1424 | 1424 | 45 | 1068 | 0 | 0 | 0 | 0 | 1068
Income Worksheet—Individual | 1282 | 1 | 999 | 999 | 15 | 250 | 283 | 283 | 3 | 14 | 264
Food Reporting System | 1282 | 7 | 1026 | 7182 | 25 | 2993 | 256 | 1792 | 3 | 90 | 3083
Meals and Snacks Form | 1282 | 7 | 1026 | 7182 | 3 | 359 | 256 | 1792 | 1 | 30 | 389
Re-interview | 1068 | 1 | 961 | 961 | 30 | 481 | 107 | 107 | 1 | 2 | 482
Total Responding Burden—Ind. | 1424 |  | 1424 |  |  | 5148 | 301 |  |  | 136 | 5286
Total Responding Burden | 2154 |  | 2154 |  |  | 6175 |  |  |  | 219 | 6394
Estimates of burden hours have been rounded.

Comments: Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to John Kirlin, Resource and Rural Economics Division, Economic Research Service, U.S. Department of Agriculture, 1400 Independence Ave. SW., Mailstop 1800, Washington, DC 20250-1800. Comments may also be submitted via fax to the attention of John Kirlin at 202-694-5661—or via email to JKIRLIN@ers.usda.gov. All comments received will be available for public inspection during regular business hours at the same address.

All responses to this notice will be summarized and included in the request for OMB approval. All comments will become a matter of public record.

Dated: March 24, 2016.
Mary Bohman,
Administrator, Economic Research Service.

[FR Doc. 2016-07850 Filed 4-5-16; 8:45 am]

BILLING CODE 3410-18-P